OFFICE OF PERSONNEL MANAGEMENT

Submission for OMB Review; Comment Request for Review of a Revised and Expired Information Collection: OPM Form 1593

AGENCY: Office of Personnel Management.

ACTION: Notice.

SUMMARY: In accordance with the Paperwork Reduction Act of 1995 (Pub. L. 104-13, May 22, 1995), this notice announces that the Office of Personnel Management (OPM) will submit to the Office of Management and Budget a request for review of a revised and expired information collection. OPM Form 1593, Federal Employment Information Customer Survey, is used by the job seeking public to express their level of satisfaction with our employment information services. Participation is voluntary.

Approximately 245,000 surveys will be completed annually. We estimate it will take 1 minute to complete this form. The total annual burden is 4,083 hours.

Comments are particularly invited on:

—Whether this collection of information is necessary for the proper performance of functions of the Office of Personnel Management, and whether it will have practical utility;

—Whether our estimate of the public burden of this collection is accurate, and based on valid assumptions and methodology; and

—Ways in which we can minimize the burden of the collection of information on those who are to respond, through the use of the appropriate technological collection techniques or other forms of information technology.

For copies of this proposal, contact Mary Beth Smith-Toomey on (202) 606-8358, or E-mail to mbtoomey@opm.gov.

DATES: Comments on this proposal should be received on or before June 9, 2000.

ADDRESSES: Send or deliver comments to Richard A. Whitford, Director, Washington Service Center/Employment, Information Office, Office of Personnel Management, 1900 E Street, NW, Room 2455, Washington, DC 20415.

Janice R. Lachance,
Director.

[FR Doc. 00-8839 Filed 4-7-00; 8:45 am]

BILLING CODE 6325-01-U